DEPARTMENT OF COMMERCE

International Trade Administration

[A-583-008, A-583-814]

Certain Circular Welded Carbon Steel Pipes and Tubes From Taiwan and Circular Welded Non-Alloy Steel Pipe From Taiwan: Negative Preliminary Determinations of Circumvention of the Antidumping Duty Orders

AGENCY: Enforcement and Compliance, International Trade Administration, Department of Commerce.

SUMMARY: The U.S. Department of Commerce (Commerce) preliminarily determines that certain circular welded carbon steel pipes and tubes (pipe and tube) and circular welded non-alloy steel pipe (CWP) imported into the United States during the period of inquiry, January 1, 2017, through December 31, 2021, were not completed in the Socialist Republic of Vietnam (Vietnam) using hot-rolled steel (HRS) manufactured in Taiwan, and, therefore, no such imports are circumventing the antidumping duty (AD) orders on pipe and tube and CWP from Taiwan. We invite interested parties to comment on these preliminary determinations.

DATES: Applicable April 12, 2023.

FOR FURTHER INFORMATION CONTACT: Nicolas Mayora (Pipe and Tube) or Preston Cox and Scarlet Jaldin (CWP), AD/CVD Operations, Offices V and VI, Enforcement and Compliance, International Trade Administration, U.S. Department of Commerce, 1401 Constitution Avenue NW, Washington, DC 20230; telephone: (202) 482-3053, (202) 482-5041, and (202) 482-4275, respectively.

SUPPLEMENTARY INFORMATION:

Background

On May 7, 1984 and November 2, 1992, Commerce published the orders on pipe and tube and CWP from Taiwan, respectively.¹ On August 4, 2022, Commerce initiated country-wide circumvention inquiries, pursuant to section 781(b) of the Tariff Act of 1930, as amended (the Act) and 19 CFR 351.226, to determine whether imports of pipe and tube and CWP from Vietnam, completed in Vietnam from HRS manufactured in Taiwan, are circumventing the Orders.² On August 30, 2022, Commerce selected SeAH Steel VINA Corporation (SeAH VINA) and Vietnam Haiphong Hongyuan Machinery Manufactory Co., Ltd. (Vietnam Haiphong) as the mandatory respondents in these circumvention inquiries.³ For a complete description of the events that followed the initiation of these inquiries, see the Preliminary Decision Memoranda.⁴

¹ See Certain Circular Welded Carbon Steel Pipes and Tubes from Taiwan: Antidumping Duty Order, 49 FR 19369 (May 7, 1984); see also Notice of Antidumping Duty Order: Circular Welded Non-Alloy Steel Pipe from Taiwan, 57 FR 49454 (November 2, 1992) (collectively, Orders).

² See Circular Welded Carbon Quality Steel Pipe from the People's Republic of China; Certain Circular Welded Non Alloy Steel Pipe from the Republic of Korea; Certain Welded Carbon Steel Standard Pipes and Tubes from India; Certain Circular Welded Carbon Steel Pipes and Tubes from Taiwan; Certain Circular Welded Non-Alloy Steel Pipe from Taiwan; Light-Walled Rectangular Pipe and Tube from the People's Republic of China; Light Walled Rectangular Pipe and Tube from the Republic of Korea; Light Walled Welded Rectangular Carbon Steel Tubing from Taiwan: Initiation of Circumvention Inquiries on the Antidumping and Countervailing Duty Orders, 87 FR 47711 (August 4, 2022).

³ See Memoranda, “Respondent Selection,” dated August 30, 2022.

⁴ See Memoranda, “Preliminary Decision Memorandum for the Circumvention Inquiry of the Antidumping Duty Order on Certain Circular Welded Carbon Steel Pipes and Tubes from Taiwan,” dated concurrently with, and hereby adopted by, this notice; and “Preliminary Decision Memorandum for the Circumvention Inquiry of the Antidumping Duty Order on Circular Welded Non-Alloy Steel Pipe from Taiwan,” dated concurrently with, and hereby adopted by, this notice (collectively, Preliminary Decision Memoranda).

Scope of the Orders

The products covered by these Orders are pipe and tube from Taiwan and CWP from Taiwan. For a complete description of the scope of the Orders, see each respective Preliminary Decision Memorandum.

Merchandise Subject to the Circumvention Inquiries

These circumvention inquiries cover pipe and tube and CWP completed in Vietnam using Taiwan-origin HRS and subsequently exported from Vietnam to the United States.

Methodology

Commerce is conducting these circumvention inquiries in accordance with section 781(b) of the Act and 19 CFR 351.226. For a full description of the methodology underlying Commerce's preliminary determinations, see the Preliminary Decision Memoranda. A list of topics discussed in each Preliminary Decision Memorandum is included as an appendix to this notice. The Preliminary Decision Memoranda are public documents and are on file electronically via Enforcement and Compliance's Antidumping and Countervailing Duty Centralized Electronic Service System (ACCESS). ACCESS is available to registered users at https://access.trade.gov. In addition, complete versions of the Preliminary Decision Memoranda can be accessed directly at https://access.trade.gov/public/FRNoticesListLayout.aspx.

Preliminary Determinations of No Shipments

As detailed in the Preliminary Decision Memoranda, Commerce preliminarily determines that SeAH VINA and Vietnam Haiphong did not complete pipe and tube and CWP using Taiwanese HRS in Vietnam, nor did they export pipe and tube or CWP incorporating Taiwan HRS to the United States during the period of inquiry. Accordingly, Commerce is making negative preliminary findings of circumvention of the Orders on a country-wide basis.

Verification

As provided in 19 CFR 351.307, Commerce may verify information relied upon in making its final determinations.

Public Comment

Because Commerce intends to conduct verification, a timeline for the submission of case briefs and written comments will be provided to interested parties at a later date.⁵ Rebuttal briefs, limited to issues raised in case briefs, may be filed no later than seven days after the date for filing case briefs.⁶ Pursuant to 19 CFR 351.309(c)(2) and (d)(2), parties who submit case briefs or rebuttal briefs in these proceedings are encouraged to submit with each argument: (1) a statement of the issue; (2) a brief summary of the argument; and (3) a table of authorities.

⁵ See 19 CFR 351.309(c). Interested parties will be notified through ACCESS regarding the deadline for submitting case briefs.

⁶ See 19 CFR 351.309(d)(1).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at a time and date to be determined.

All submissions should be filed electronically via ACCESS.⁷ Alternative arrangements for manual filings must be made by contacting the official in charge at least 72 hours before the deadline. Note that Commerce has temporarily modified certain of its requirements for serving documents containing business proprietary information, until further notice.⁸

⁷ See 19 CFR 351.303.

⁸ See Temporary Rule Modifying AD/CVD Service Requirements Due to COVID-19; Extension of Effective Period, 85 FR 41363 (July 10, 2020).

Notification to Interested Parties

This determination is issued and published in accordance with section 781(b) of the Act and 19 CFR 351.226(g)(1).

Dated: April 6, 2023.
Abdelali Elouaradia,
Deputy Assistant Secretary for Enforcement and Compliance.

Appendix

List of Topics Discussed in the Preliminary Decision Memoranda

I. Summary

II. Background

III. Scope of the Order

IV. Merchandise Subject to the Circumvention Inquiry

V. Period of Circumvention Inquiry

VI. Statutory and Regulatory Framework for Circumvention Inquiry

VII. Preliminary Circumvention Determination

VIII. Verification

IX. Recommendation

[FR Doc. 2023-07709 Filed 4-11-23; 8:45 am]

BILLING CODE 3510-DS-P